DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2020, through September 30, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Kathleen Beldon, Sheffield, Ohio, Court of Federal Claims No: 20-1111V

2. Shanel Mayo, Chula Vista, California, Court of Federal Claims No: 20-1112V

3. Alison Guthrie, Little Rock, Arkansas, Court of Federal Claims No: 20-1113V

4. Troy Fontechia, Franklin, Tennessee, Court of Federal Claims No: 20-1114V

5. Christa Smith, Denver, Colorado, Court of Federal Claims No: 20-1115V

6. Lisa A. Whitehead, Cleveland, Tennessee, Court of Federal Claims No: 20-1118V

7. Darrell Williams, Louisville, Kentucky, Court of Federal Claims No: 20-1120V

8. Rebecca Jaramillo, Alexandria, Virginia, Court of Federal Claims No: 20-1122V

9. Amanda Baxter, Sacramento, California, Court of Federal Claims No: 20-1123V

10. John Simpson, Phoenix, Arizona, Court of Federal Claims No: 20-1124V

11. Amy Trudeau, Shelby Township, Michigan, Court of Federal Claims No: 20-1125V

12. Craig Divine on behalf of J.D., Phoenix, Arizona, Court of Federal Claims No: 20-1127V

13. Janet Smith, St. Louis, Missouri, Court of Federal Claims No: 20-1128V

14. Lindsey Austin, Asheville, North Carolina, Court of Federal Claims No: 20-1129V

15. Robert Laing, Deerfield, Illinois, Court of Federal Claims No: 20-1130V

16. Tonya Wilson, Fishers, Indiana, Court of Federal Claims No: 20-1131V

17. Quatina Battle, Nashville, North Carolina, Court of Federal Claims No: 20-1133V

18. Felicia A. Vinson, Racine, Wisconsin, Court of Federal Claims No: 20-1134V

19. Kelly Seim, Chicago, Illinois, Court of Federal Claims No: 20-1136V

20. Donna Burke, Salem, Wisconsin, Court of Federal Claims No: 20-1137V

21. Isabel Irizarry, Brooklyn, New York, Court of Federal Claims No: 20-1140V

22. Elizabeth Merwitz, Montgomery, Texas, Court of Federal Claims No: 20-1141V

23. Pamela Vitrano, New Orleans, Louisiana, Court of Federal Claims No: 20-1142V

24. Sara Storm and Joshua Storm on behalf of K.A.S., Madison, Wisconsin, Court of Federal Claims No: 20-1143V

25. Kathryn Frowein, Hartford, Wisconsin, Court of Federal Claims No: 20-1146V

26. Frederick Reno, Santa Rosa, California, Court of Federal Claims No: 20-1147V

27. Brett Van Leer-Greenberg on behalf of H. V.L., New York, New York, Court of Federal Claims No: 20-1150V

28. Sarah Hall, Lakeland, Florida, Court of Federal Claims No: 20-1151V

29. Sidney Lenox, Wichita, Kansas, Court of Federal Claims No: 20-1152V

30. Debbie Fresch, Fort Worth, Texas, Court of Federal Claims No: 20-1153V

31. Bernard Neuwirth on behalf of The Estate of Ellen C. Neuwirth, Pittsburgh, Pennsylvania, Court of Federal Claims No: 20-1155V

32. Ronald Malinski, Sterling Heights, Michigan, Court of Federal Claims No: 20-1156V

33. Constantine Basdakis, Yorba Linda, California, Court of Federal Claims No: 20-1158V

34. Krystal Garcia, New York, New York, Court of Federal Claims No: 20-1159V

35. Deanna Ghormley, Bentonville, Arkansas, Court of Federal Claims No: 20-1161V

36. Ricki Lagozzino, Spokane, Washington, Court of Federal Claims No: 20-1162V

37. Emily Butcher, Boston, Massachusetts, Court of Federal Claims No: 20-1163V

38. Holly Reynolds, Brookings, Oregon, Court of Federal Claims No: 20-1165V

39. Patricia Horton, Cedar Rapids, Iowa, Court of Federal Claims No: 20-1166V

40. Holly Walls-Grom, Berkley Heights, New Jersey, Court of Federal Claims No: 20-1167V

41. Donna E. Maestas, Rio Rancho, New Mexico, Court of Federal Claims No: 20-1168V

42. Dianne Needham, Scottsdale, Arizona, Court of Federal Claims No: 20-1169V

43. Kimberly Monk, Whitewater, Wisconsin, Court of Federal Claims No: 20-1171V

44. Derek Zobrist on behalf of Estate of Derek Edwin Zobrist, Deceased, Los Angeles, California, Court of Federal Claims No: 20-1172V

45. Lori Grady, Spokane, Washington, Court of Federal Claims No: 20-1175V

46. Kathleen Stryski, Gilbert, Arizona, Court of Federal Claims No: 20-1177V

47. Rebecca Cartwright, Wadsworth, Ohio, Court of Federal Claims No: 20-1178V

48. Jody Caldwell, Falconer, New York, Court of Federal Claims No: 20-1179V

49. Robert G. Wilson, Leesburg, Virginia, Court of Federal Claims No: 20-1181V

50. Jo Ann Pusich-Silas, Milton, Washington, Court of Federal Claims No: 20-1184V

51. Douglas Golden and Rishanne Dradt on behalf of Haleigh Golden, Deceased, Phoenix, Arizona, Court of Federal Claims No: 20-1186V

52. Kamille A. King, Murray, Utah, Court of Federal Claims No: 20-1187V

53. William A. Faith, Louisville, Kentucky, Court of Federal Claims No: 20-1188V

54. Semeca Johnson, Chicago, Illinois, Court of Federal Claims No: 20-1189V

55. Judith Adams, Grove City, Ohio, Court of Federal Claims No: 20-1190V

56. Kenneth Heron, Arlington, Texas, Court of Federal Claims No: 20-1191V

57. Anne Dowdle, Los Alamitos, California, Court of Federal Claims No: 20-1192V

58. Nasser Abdulkadir, Houston, Texas, Court of Federal Claims No: 20-1193V

59. Huong Thi Do, Philadelphia, Pennsylvania, Court of Federal Claims No: 20-1194V

60. Donald Watford, Birmingham, Alabama, Court of Federal Claims No: 20-1195V

61. Sara Campbell, New Orleans, Louisiana, Court of Federal Claims No: 20-1196V

62. Jonathan Ruiz, New Haven, Connecticut, Court of Federal Claims No: 20-1198V

63. Charlene Viets, Henderson, Kentucky, Court of Federal Claims No: 20-1199V

64. Linda B. Haston, Ponte Vedra Beach, Florida, Court of Federal Claims No: 20-1200V

65. James Gill, Fort Myers, Florida, Court of Federal Claims No: 20-1201V

66. Vonnie Hatton, Bullhead City, Arizona, Court of Federal Claims No: 20-1202V

67. Kyrian J. Marshall, Greenwood, Indiana, Court of Federal Claims No: 20-1203V

68. Nora Anne Lawrence, Beaufort, North Carolina, Court of Federal Claims No: 20-1205V

69. Marcia Roby, Hawesville, Kentucky, Court of Federal Claims No: 20-1206V

70. Lindsay M. Camplin, Indianapolis, Indiana, Court of Federal Claims No: 20-1208V

71. Patricia G. Hustead, Athens, Texas, Court of Federal Claims No: 20-1212V

72. Casimir Chmielewski, Washington, District of Columbia, Court of Federal Claims No: 20-1213V

73. Kristen McCormack, Chicago, Illinois, Court of Federal Claims No: 20-1214V

74. Steven Bekker, Concord, North Carolina, Court of Federal Claims No: 20-1215V

75. Angel Silveyra, Carol Stream, Illinois, Court of Federal Claims No: 20-1216V

76. Robert Cameron, Boston, Massachusetts, Court of Federal Claims No: 20-1217V

77. Maureen Reilly, Philadelphia, Pennsylvania, Court of Federal Claims No: 20-1218V

78. Kimberly Asay, Salt Lake City, Utah, Court of Federal Claims No: 20-1219V

79. Leslie Armstrong, Middletown, New York, Court of Federal Claims No: 20-1221V

80. Randy Brouette, Palos Heights, Illinois, Court of Federal Claims No: 20-1222V

81. Michael Calvin Miller, Commerce, Georgia, Court of Federal Claims No: 20-1225V

82. Charlie Dee Mason, Greensboro, North Carolina, Court of Federal Claims No: 20-1226V

83. Maureen Deighan, Hawthorne, New York, Court of Federal Claims No: 20-1227V

84. Donna Verdisco, New Haven, Connecticut, Court of Federal Claims No: 20-1228V

85. Christopher Cary, Scranton, Pennsylvania, Court of Federal Claims No: 20-1229V

86. Sharlene Beal, Rockport, Maine, Court of Federal Claims No: 20-1232V

87. Carl J. Dietz, New York, New York, Court of Federal Claims No: 20-1233V

88. Kristin Cowan, Salt Lake City, Utah, Court of Federal Claims No: 20-1234V

89. Jeanette Koka, Washington, District of Columbia, Court of Federal Claims No: 20-1235V

90. Donna Proctor, Houston, Texas, Court of Federal Claims No: 20-1236V

91. Melanie Fatone, Colchester, Connecticut, Court of Federal Claims No: 20-1238V

92. Wilson V. Rivera, Rochester, New York, Court of Federal Claims No: 20-1239V

93. Lenora Donlin, Forest Lake, Minnesota, Court of Federal Claims No: 20-1240V

94. Jacqueline Brito, Norwalk, Connecticut, Court of Federal Claims No: 20-1241V

95. Barbara Howard and Rodney Barnes on behalf of R.B., Mobile, Alabama, Court of Federal Claims No: 20-1242V

96. Fetlework Norvell, Gaithersburg, Maryland, Court of Federal Claims No: 20-1243V

97. James Marr, Fort Leonard Wood, Missouri, Court of Federal Claims No: 20-1244V

98. Kara Couch, Frankfort, Kentucky, Court of Federal Claims No: 20-1246V

99. Marika Yessa, Winfield, Illinois, Court of Federal Claims No: 20-1247V

100. Anne Pisani on behalf of Estate of Frank Pisani, Deceased, Aston, Pennsylvania, Court of Federal Claims No: 20-1249V

101. Angelea Buttles, Boston, Massachusetts, Court of Federal Claims No: 20-1250V

102. Carol Steinhauer, Pittsburgh, Pennsylvania, Court of Federal Claims No: 20-1251V

103. Yasmin Sheriff, Chicago, Illinois, Court of Federal Claims No: 20-1252V

104. Danielle Horne, Beverly, Massachusetts, Court of Federal Claims No: 20-1253V

105. June T. Taylor and Edward Timothy Canavan on behalf of Estate of Edward T. Canavan, Deceased, Bay Shore, New York, Court of Federal Claims No: 20-1255V

106. Anita Briant, Slidell, Louisiana, Court of Federal Claims No: 20-1257V

107. Nichelle Williams, Boston, Massachusetts, Court of Federal Claims No: 20-1259V

108. John Vandermeyde, Newton, New Jersey, Court of Federal Claims No: 20-1260V

109. Sarah Henderson, Union City, New Jersey, Court of Federal Claims No: 20-1261V

110. Thomas Grant, San Antonio, Texas, Court of Federal Claims No: 20-1262V

111. Elizabeth Holsworth, Jenkintown, Pennsylvania, Court of Federal Claims No: 20-1263V

112. Sonya Elfar, Washington, District of Columbia, Court of Federal Claims No: 20-1264V

113. Christopher DeMore, Durham, North Carolina, Court of Federal Claims No: 20-1265V

114. Kaitlyn J. Reece on behalf of K.R., Manlius, New York, Court of Federal Claims No: 20-1267V

115. Barbara Cerasuolo, Hudson, Massachusetts, Court of Federal Claims No: 20-1268V

116. Robert Stern, New York, New York, Court of Federal Claims No: 20-1270V

117. Robin Rossmann, Charlotte, North Carolina, Court of Federal Claims No: 20-1271V

118. Blas Gutierrez on behalf of Gissell Gutierrez, Brentwood, New York, Court of Federal Claims No: 20-1273V

119. Blas Gutierrez on behalf of Gissell Gutierrez, Brentwood, New York, Court of Federal Claims No: 20-1274V

120. Julio Mendoza, Las Vegas, Nevada, Court of Federal Claims No: 20-1275V

121. Beth A. Ross, Richmond, Virginia, Court of Federal Claims No: 20-1276V

122. Kimberly Ruiz, Houston, Texas, Court of Federal Claims No: 20-1277V

123. Sharon K. Dixon, Bloomington, Indiana, Court of Federal Claims No: 20-1278V

124. Salina M. Flores, Crown Point, Indiana, Court of Federal Claims No: 20-1279V

125. Mackenzie Summers, Phoenix, Arizona, Court of Federal Claims No: 20-1280V

126. Larry J. Demas, Pittsburgh, Pennsylvania, Court of Federal Claims No: 20-1281V

127. Maryann Amicucci, Monongahela, Pennsylvania, Court of Federal Claims No: 20-1282V

128. Bradley M. McLee, Sr. on behalf of Nadine Lynn McLee, Pittsburgh, Pennsylvania, Court of Federal Claims No: 20-1283V

129. Melissa Nicholson, Boston, Massachusetts, Court of Federal Claims No: 20-1284V

130. Casey R. Morgan, Overland Park, Kansas, Court of Federal Claims No: 20-1286V

131. Alex Brown, Boston, Massachusetts, Court of Federal Claims No: 20-1287V

132. Matthew Miller, Boston, Massachusetts, Court of Federal Claims No: 20-1291V

133. Jaclyn Godoy on behalf of L.G., White Plains, New York, Court of Federal Claims No: 20-1292V

134. Alejandra Fajardo, Boston, Massachusetts, Court of Federal Claims No: 20-1294V

135. Jyl Ann Poteet, Granbury, Texas, Court of Federal Claims No: 20-1295V

136. Erica Nesteruk, Fort Mill, South Carolina, Court of Federal Claims No: 20-1297V

137. Terisa A. Folaron, Shorewood, Wisconsin, Court of Federal Claims No: 20-1298V

138. Eula Adeniji, Charlotte, North Carolina, Court of Federal Claims No: 20-1299V

[FR Doc. 2020-22998 Filed 10-16-20; 8:45 am]

BILLING CODE 4165-15-P